DEPARTMENT OF THE INTERIOR

National Park Service

[NPS-WASO-NAGPRA-NPS0038407; PPWOCRADN0-PCU00RP14.R50000]

Notice To Rescind a Notice of Inventory Completion: U.S. Department of Agriculture, Forest Service, Shoshone National Forest, Cody, WY

AGENCY: National Park Service, Interior.

ACTION: Notice.

SUMMARY: The U.S. Department of Agriculture, Forest Service, Shoshone National Forest is rescinding a Notice of Inventory Completion Correction published in the Federal Register on July 1, 2022.

ADDRESSES: Ken Coffin, Forest Supervisor, Shoshone National Forest, 808 Meadow Lane Avenue, Cody, WY 82414 telephone (307) 578-5187, email kenneth.coffin@usda.gov.

SUPPLEMENTARY INFORMATION: This notice is published as part of the National Park Service's administrative responsibilities under the Native American Graves Protection and Repatriation Act (NAGPRA). The determinations in this notice are the sole responsibility of the Shoshone National Forest, and additional information on the determinations in this notice, including the results of consultation, can be found in its inventory or related records. The National Park Service is not responsible for the determinations in this notice.

The Shoshone National Forest is rescinding a Notice of Inventory Completion Correction published in the Federal Register (87 FR 39553-39554, July 1, 2022), and all paragraphs are deleted in their entirety. The human remains and associated funerary objects were removed from Park County, WY. Transfer of control of the items in this notice has not occurred.

The Shoshone National Forest is responsible for notifying the Eastern Shoshone Tribe of the Wind River Reservation, Wyoming and the Shoshone-Bannock Tribes of the Fort Hall Reservation that this notice has been published.

Authority: Native American Graves Protection and Repatriation Act, 25 U.S.C. 3003, and the implementing regulations, 43 CFR 10.10.

Dated: July 26, 2024.
Melanie O'Brien,
Manager, National NAGPRA Program.

[FR Doc. 2024-17267 Filed 8-5-24; 8:45 am]

BILLING CODE 4312-52-P